OFFICE OF GOVERNMENT ETHICS

Agency Information Collection Activities; Submission for OMB Review; Proposed Collection; Comment Request for a Modified OGE Form 201 Request an Individual's Ethics Documents

AGENCY: Office of Government Ethics (OGE).

ACTION: Notice of request for agency and public comments.

SUMMARY: After this second round notice and public comment period, the U.S. Office of Government Ethics (OGE) plans to submit a proposed modified OGE Form 201, Request an Individual's Ethics Documents (OGE Form 201) to the Office of Management and Budget (OMB) for review and approval of a three-year extension under the Paperwork Reduction Act of 1995. The OGE Form 201 is used by persons requesting access to executive branch public financial disclosure reports and other covered records.

DATES: Written comments by the public and agencies on this proposed extension are invited and must be received by April 24, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: McEvan Baum at the U.S. Office of Government Ethics; telephone: 202-482-9287; TTY: 800-877-8339; Email: usoge@oge.gov. An electronic copy of the OGE Form 201 version used to manually submit access requests to OGE or other executive branch agencies by mail or FAX is available in the Forms Library section of OGE's website at http://www.oge.gov. A paper copy may also be obtained, without charge, by contacting Mr. Baum.

SUPPLEMENTARY INFORMATION:

Title: OGE Form 201 Request an Individual's Ethics Documents.

Agency Form Number: OGE Form 201.

OMB Control Number: 3209-0002.

Type of Information Collection: Extension with modifications of a currently approved collection.

Type of Review Request: Regular.

Respondents: Individuals requesting access to executive branch public financial disclosure reports and other covered records.

Estimated Annual Number of Respondents: 19,000.

Estimated Time per Response: 10 minutes.

Estimated Total Annual Burden: 3,167 hours.

Abstract: The OGE Form 201 collects information from, and provides certain information to, persons who seek access to OGE Form 278 Public Financial Disclosure Reports, including OGE Form 278-T Periodic Transaction Reports, and other covered records. The form reflects the requirements of the Ethics in Government Act, subsequent amendments pursuant to the STOCK Act, and OGE's implementing regulations that must be met by a person before access can be granted. These requirements include the address of the requester, as well as any other person on whose behalf a record is sought, and acknowledgement that the applicant is aware of the prohibited uses of executive branch public disclosure financial reports. See 5 U.S.C. 13107(b) and (c) and 13122(b)(1) and 5 CFR 2634.603(c) and (f). Executive branch departments and agencies are encouraged to utilize the OGE Form 201 for individuals seeking access to public financial disclosure reports and other covered documents. OGE permits departments and agencies to use or develop their own forms as long as the forms collect and provide all of the required information.

OGE currently has OMB approval for two versions of the form, a PDF version and OGE's online application. The online version enables the applicant to electronically fill out, submit, and receive access to copies of the public financial disclosure reports certified by the U.S. Office of Government Ethics.

OGE is proposing several changes to OGE Form 201, with the goals of (1) making the form more appropriate for use throughout the executive branch, and (2) providing applicants with clarifying information about the use of the form. The changes were developed with feedback from agency ethics officials across the executive branch, through a listening session and written comments. To the extent appropriate, the comments and feedback from agency ethics officials have been incorporated into the proposed revised form. The proposed changes are summarized below.

OGE recently made nonsubstantive changes to the electronic version of the Form 201, simplifying the name from “Request to Inspect or Receive Copies of Executive Branch Personnel Public Financial Disclosure Reports or Other Covered Records” to “Request an Individual's Ethics Documents.” OGE now proposes to apply the new name to the PDF version as well, so that all versions of the form will have the same name.

OGE proposes adding approximately two pages of supplemental information to the PDF version of the form in order to provide guidance to applicants regarding the use of the form. Specifically, the supplemental information provides guidance on which documents can be obtained by request via the form (including a description of such documents), which documents can be obtained from OGE as opposed to an individual's employing agency, and when and how to submit a request using the PDF version of the form. The changes avoid the use of the term “other covered records,” which was a point of confusion for applicants in the past. Instead, the supplemental information simply describes all documents available through use of the form, including a chart. OGE proposes to remove section III because that information will now be found more easily in the supplemental information.

OGE proposes to make a number of changes to the PDF version of the form to align the form with plain language principles and to improve user experience. These changes include: adding the title to the face of the PDF version of the form; removing OGE's name, address, telephone number and fax number from the top of the form; adding “Your” in front of the name, mailing address, occupation, and telephone number fields; adding parentheticals containing the word “required” next to required fields; grouping fields 3 and 3a in section I together; and reformatting section I in order to make it easier for applicants to specify the type of report and time period in field 5, if applicable, and provide examples to the applicants in the instructions. OGE also proposes to add a continuation page to allow more space for fields 5 and 5a.

OGE proposes moving the “Agency Use Only” box on the PDF version of the form to the end of section II (“Notice of Action”), marking it “optional,” and expanding it. Moving it to the end of section II will group together all portions of the form to be completed by the applicant, thereby minimizing the potential for missing information or omitting a signature that would delay processing. The proposed additions add space for information on requests that are not filled and additional notes in order to provide more information to applicants about why a document was or was not released. Likewise, OGE proposes to remove the checkbox in section II indicating that “Copies of the report(s) or other covered record(s) you requested are enclosed” as duplicative of the information in the revised “Agency Use Only” box.

OGE proposes changing the applicant choices on all versions of the form by changing “private citizen” to “member of the public;” combining “law firm” and “other private organization” into simply “private organization;” and adding an option for “other.” The purpose of these changes is to modernize the language and make selecting a choice easier for the applicant.

In the applicant signature section on all versions of the form, OGE proposes to broaden language to address all potential requested records. The revised language would read: “I am aware that in completing this official government form that any intentionally false or misleading statement, certification, or response provided in this form is a violation of law punishable by a fine or imprisonment, or both, under 18 U.S.C. 1001.”

Finally, on the PDF version of the form, OGE proposes adding the option for applicants to provide an email address in lieu of a mailing address, while also removing the “Pick-up” option. These changes are based on agency feedback that almost every request is filled using email and that few agencies allow for applicants to pick up documents. Use of email also helps with record keeping and cuts down significantly on processing time, allowing applicants to receive their documents quickly. OGE also proposes to remove the checkbox for the “Picked up by” from section II, as that option would be eliminated. The online application currently requires applicants to provide an email address and applicants who use the online application may only receive a response via email. OGE now proposes to remove the unnecessary street address field from the online application, to reduce the information burden on applicants.

A Federal Register Notice with a 60-day comment period soliciting comments on this information collection was published on November 2, 2022 (87 FR 66188). OGE did not receive any comments in response. However, after further review OGE proposes to make additional nonsubstantive changes to both versions of the form designed to improve user experience and readability. The additional changes are as follows:

• Nonmaterial wording changes to field descriptions and instructions to improve readability and consistency throughout the form (PDF version only)

• Nonmaterial changes in punctuation and capitalization to improve readability and consistency throughout the form (PDF version only)

• Update to the Public Burden Information section to accurately reflect the location of the OMB control number

• Changes to buttons and other aspects of the user interface to make navigation easier (PDF version only)

• Updates to the Ethics in Government Act of 1978 citations to accurately reflect the recent recodification of that statute

• Update to the penalty amount in the applicant signature section based on a recent statutory update

Request for Comments: Agency and public comment is invited specifically on the need for and practical utility of this information collection, the accuracy of OGE's burden estimate, the enhancement of quality, utility and clarity of the information collected, and the minimization of burden (including the use of information technology). Comments received in response to this notice will be summarized for and included with the OGE request for extension of OMB paperwork approval. The comments will also become a matter of public record.

Specifically, OGE seeks public comment on the following:

• What problems do you have using the form?

• Are there sections of the form or instructions that are unclear?

• Is there information provided that is confusing?

• What additional information would be helpful?

Approved: February 16, 2023.
Emory Rounds,
Director, U.S. Office of Government Ethics.

[FR Doc. 2023-03713 Filed 2-22-23; 8:45 am]

BILLING CODE 6345-03-P